DEPARTMENT OF ENERGY

Federal Energy Regulatory Commission

Combined Notice of Filings

Take notice that the Commission has received the following Natural Gas Pipeline Rate and Refund Report filings:

Docket Number: PR20-50-000.

Applicants: Enterprise Texas Pipeline LLC.

Description: Tariff filing per 284.123(b)(2)+(g): ETP 311 Rate Filing and Amended SOC to be effective 4/1/2020.

Filed Date: 4/13/2020.

Accession Number: 202004135069.

Comments Due: 5 p.m. ET 5/4/2020.

284.123(g) Protests Due: 5 p.m. ET 6/12/2020.

Docket Numbers: RP20-779-000.

Applicants: Transcontinental Gas Pipe Line Company, LLC.

Description: § 4(d) Rate Filing: GT&C Section 49 Tariff Change to be effective 5/11/2020.

Filed Date: 4/10/20.

Accession Number: 20200410-5078.

Comments Due: 5 p.m. ET 4/22/20.

Docket Numbers: RP20-780-000.

Applicants: Pine Needle LNG Company, LLC.

Description: Compliance filing Petition for Approval of a Negotiated Stipulation and Agreement.

Filed Date: 4/10/20.

Accession Number: 20200410-5150.

Comments Due: 5 p.m. ET 4/22/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 14, 2020.
Nathaniel J. Davis, Sr.,
Deputy Secretary.

[FR Doc. 2020-08253 Filed 4-17-20; 8:45 am]

BILLING CODE 6717-01-P